COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and services to be furnished by nonprofit agencies employing persons who are blind or have other severe disabilities.

DATES: Effective Date: September 21, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On June 20 and June 27, 2008, the Committee for Purchase From People Who Are Blind or Severely Disabled published notice (73 FR35118; 35119; 36492) of proposed additions to the Procurement List.

The following comments pertain to Bulletin Rails; Bulletin Board; and Marker Board, Wall Mounted:

Comments were received from a contractor that provides some of the same commodities and is an authorized distributor of AbilityOne products. The contractor stated that adding the proposed products to the Procurement List will have a significantly adverse effect on her company. However, the contractor did not demonstrate that her firm holds a contract specifically for the proposed products versus holding a multiple award contract for a broad category of products such as office supplies. The Committee determined that its action will not have a severe adverse impact on this contractor, as the company continues to be able to do business with the government and may sell the AbilityOne products in lieu of commercial equivalents to its federal customers.

Comments were received from a manufacturer's representative group, stating that the addition of the proposed products to the Procurement List will have significant impact on her business and a substantial number of small entities who can no longer sell commercial equivalent products to federal customers. The commenter stated that companies are struggling to survive in the current economy without having to compete with AbilityOne. The commenter questioned whether the products would in fact be produced with 75% direct labor from people who are blind and whether the products would be compliant with the Trade Agreements Act (TAA).

The commenter did not support the claim that there was significant impact on her business with specific contract or financial information. As stated above, large and small office supply dealers will continue to be able to do business with the government if they become authorized to sell the AbilityOne manufactured products in the place of commercial equivalents. In addition, the AbilityOne Program pertains to federal purchasing, which is a small share of the U.S. market for office supplies. The nonprofit agency designated to manufacture the proposed products is in full compliance with Committee regulations for direct labor by people who are blind, and proposes to manufacture the subject items with 81% direct labor provided by people who are blind, creating over 10 new jobs annually for these individuals. The production will include several cutting functions, assembling, attaching/including hardware and packaging the products, constituting a substantial transformation. The resulting products, once added to the Procurement List, will be compliant with the TAA.

The following comment pertains to Stapler, Spring Power:

A comment was received from an AbilityOne nonprofit agency employing persons with severe disabilities that currently supplies staplers under the AbilityOne Program to Federal customers. In its comment, the nonprofit stated that the addition of the spring powered staplers would have a significant negative impact on its current line of staplers and indicated that the spring powered staplers should be awarded to them as a product line extension.

The Javits-Wagner-O'Day (JWOD) Act establishes a clear priority for products produced and offered for sale by qualified nonprofit agencies for the blind over products produced and offered for sale by qualified nonprofit agencies for other severely handicapped (41 U.S.C. 47(d)(2)). National Industries for the Blind (NIB) has not previously waived the priority for all staplers in the stapler line. Spring powered staplers have been available to the Government from commercial vendors via GSA schedule contracts concurrent with the sale of the nonprofit's standard stapler for a considerable time; therefore the addition to the Procurement List of spring powered staplers will not have a severe adverse impact on the sale of standard staplers by the nonprofit agency.

The following material pertains to all of the items being added to the Procurement List:

After consideration of the material presented to it concerning capability of qualified nonprofit agencies to provide the product and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Bulletin Rails

NSN: 7520-00-NIB-1801—48″, Natural Cork, Aluminum Frame.

NSN: 7520-00-NIB-1802—36″, Natural Cork, Aluminum Frame.

NSN: 7520-00-NIB-1803—24″, Natural Cork, Aluminum Frame.

Marker Board, Wall Mounted

NSN: 7110-00-NIB-0037—3′x2′ , Combo Dry Erase, Cork Board, Oak Finish.

NSN: 7110-00-NIB-0038—24″x18″, Melamine, Dry Erase Board, Thin Aluminum Frame.

NSN: 7110-00-NIB-0042—24″x18″, Cork Board, Oak Finish.

NSN: 7110-00-NIB-0047—3′x2′, Fabric Board, Grey, Black Plastic Radius Corners.

NSN: 7110-00-NIB-0048—4—12″x12″, Cork, Panels w/Adhesive Backing (no frame).

NSN: 7110-00-NIB-0050—1″x3″, Cork Board, Vertical, Slim Line Oak Finish.

NSN: 7110-00-NIB-0060—5′x3′, Porcelain Magnetic Dry Erase Board, Thick Aluminum.

NSN: 7110-01-416-5198—24″x18″, Melamine, Dry Erase Board, Thin Aluminum.

NSN: 7195-01-235-4161—3′x2′, Cork Board, Oak Finish.

Coverage: A-List for the total Government requirements as specified by the General Services Administration.

Bulletin Board

NSN: 7195-01-218-2026-4′x3′, Cork Board, Oak Finish.

Marker Board, Wall Mounted

NSN: 7110-00-NIB-0028—24″x13″, Dry Erase, Cubicle Board, Aluminum.

NSN: 7110-00-NIB-0029—30″x18″, Dry Erase, Cubicle Board, Aluminum.

NSN: 7110-00-NIB-0030—30″x18″, Combo Dry Erase, Cubicle Color Cork Board, Aluminum.

NSN: 7110-00-NIB-0031—30″x18″, Cubicle Color Cork Board, Aluminum.

NSN: 7110-00-NIB-0032—30″x18″, Dry Erase, 1 mo. Calendar, Aluminum.

NSN: 7110-00-NIB-0039—4′x3′, Combo Dry Erase, Cork Board, Oak Finish.

NSN: 7110-00-NIB-0040—6′x4′, Melamine Dry Erase Magnetic, Thick Aluminum Frame.

NSN: 7110-00-NIB-0043—6′x4′, Porcelain, Dry Erase Magnetic, Thick Aluminum Frame.

NSN: 7110-00-NIB-0045—24″x18″, In/Out Board System, Thin Aluminum Frame.

NSN: 7110-00-NIB-0046—4′x3′, Fabric Board, Black Plastic, Radius Corners.

NSN: 7110-00-NIB-0049—6′x4′, Cork Board, Thin Aluminum Frame.

NSN: 7110-00-NIB-0051—6′x4′, Cork Board, Oak Finish.

Coverage: B-List for the broad Government requirement as specified by the General Services Administration

NPA: The Lighthouse for the Blind, Inc. (Seattle Lighthouse), Seattle, WA.

Contracting Activity: General Service Administration, Federal Supply Service, National Furniture Acquisition Center, Arlington, VA.

Stapler, Spring Powered

NSN: 7520-00-NIB-1916—20 sheet capacity.

NSN: 7520-00-NIB-1917—60 sheet capacity.

NSN: 7520-00-NIB-1992—15 sheet capacity.

NSN: 7520-00-NIB-1993—25 sheet capacity.

Coverage: A-List for the total Government requirements as specified by the General Services Administration.

NPA: Winston-Salem Industries for the Blind, Winston-Salem, NC.

Contracting Activity: General Services Administration, Federal Supply Services, Region 2, New York, NY.

Services

Service Type/Location: Custodial Services, Illinois Military Academy, 1301 North MacArthur Road, Springfield, IL.

NPA: United Cerebral Palsy of the Land of Lincoln, Springfield, IL.

Contracting Activity: Illinois National Guard—Camp Lincoln, Springfield, IL.

Service Type/Location: Facilities Management, Naval Surface Warfare Center, Acoustic Research Detachment (ARD), Bayview, ID.

NPA: Skookum Educational Programs, Bremerton, WA.

Contracting Activity: Naval Facilities Engineering Command (NAVFAC), Silverdale, WA.

This action does not affect current contracts awarded prior to the effective date of this addition or options that may be exercised under those contracts.

Kimberly M. Zeich,
Director, Program Operations.

[FR Doc. E8-19476 Filed 8-21-08; 8:45 am]

BILLING CODE 6353-01-P